DEPARTMENT OF THE INTERIOR

National Park Service

[NPS-WASO-NAGPRA-19690; PPWOCRADN0-PCU00RP14.R50000]

Notice of Inventory Completion: Minnesota Indian Affairs Council, Bemidji, MN

AGENCY: National Park Service, Interior.

ACTION: Notice.

SUMMARY: The Minnesota Indian Affairs Council has completed an inventory of human remains and an associated funerary object, in consultation with the appropriate Indian tribes or Native Hawaiian organizations, and has determined that there is a cultural affiliation between the human remains and the associated funerary object and present-day Indian tribes or Native Hawaiian organizations. Lineal descendants or representatives of any Indian tribe or Native Hawaiian organization not identified in this notice that wish to request transfer of control of these human remains and the associated funerary object should submit a written request to the Minnesota Indian Affairs Council. If no additional requestors come forward, transfer of control of the human remains and the associated funerary object to the lineal descendants, Indian tribes, or Native Hawaiian organizations stated in this notice may proceed.

DATES: Lineal descendants or representatives of any Indian tribe or Native Hawaiian organization not identified in this notice that wish to request transfer of control of these human remains and the associated funerary object should submit a written request with information in support of the request to the Minnesota Indian Affairs Council at the address in this notice by January 7, 2016.

ADDRESSES: James L. Jones, Jr., Cultural Resource Specialist, Minnesota Indian Affairs Council, 113 2nd Avenue NW., Suite 110A, Bemidji, MN 56601, telephone (218) 209-7916.

SUPPLEMENTARY INFORMATION: Notice is here given in accordance with the Native American Graves Protection and Repatriation Act (NAGPRA), 25 U.S.C. 3003, of the completion of an inventory of human remains and an associated funerary object under the control of the Minnesota Indian Affairs Council, Bemidji, MN. The human remains and associated funerary object were removed from an unknown site on the Columbia River, WA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Minnesota Indian Affairs Council professional staff in consultation with representatives of the Confederated Tribes and Bands of the Yakama Nation; Confederated Tribes of the Umatilla Indian Reservation (previously listed as the Confederated Tribes of the Umatilla Reservation, Oregon); Confederated Tribes of the Warm Springs Reservation of Oregon; Nez Perce Tribe (previously listed as the Nez Perce Tribe of Idaho); Spokane Tribe of the Spokane Reservation; and the Wanapum Band, a non-federally recognized Indian group, a non-federally recognized Indian group.

History and Description of the Remains

In 1934, human remains representing, at minimum, one individual were removed from an unknown location on the Columbia River, WA. The human remains were sent by the collector to Albert Jenks, a University of Minnesota professor. No known individuals were identified. The one associated funerary object is a glass bottle filled with gold-bearing black sand from the Columbia River.

The information that accompanied the human remains and associated funerary object indicated that the human remains and associated funerary object were removed from a site along the Columbia River in Washington State. Based on osteological evidence, oral tradition, archeological and geographical evidence for the Columbia Plateau from the prehistoric through the historic times along with consultation with the Confederated Tribes and Bands of the Yakama Nation; Confederated Tribes of the Umatilla Indian Reservation (previously listed as the Confederated Tribes of the Umatilla Reservation, Oregon); Confederated Tribes of the Warm Springs Reservation of Oregon; Nez Perce Tribe (previously listed as the Nez Perce Tribe of Idaho); Spokane Tribe of the Spokane Reservation; and the Wanapum Band, a non-federally recognized Indian group, the remains have been determined to be Native American.

Determinations Made by the Minnesota Indian Affairs Council

Officials of the Minnesota Indian Affairs Council have determined that:

• Pursuant to 25 U.S.C. 3001(9), the human remains described in this notice represent the physical remains of one individual of Native American ancestry.

• Pursuant to 25 U.S.C. 3001(3)(A), the one object described in this notice is reasonably believed to have been placed with or near individual human remains at the time of death or later as part of the death rite or ceremony.

• Pursuant to 25 U.S.C. 3001(2), there is a relationship of shared group identity that can be reasonably traced between the Native American human remains and associated funerary object and the Confederated Tribes and Bands of the Yakama Nation; Confederated Tribes of Siletz Indians of Oregon (previously listed as the Confederated Tribes of the Siletz Reservation); Confederated Tribes of the Chehalis Reservation; Confederated Tribes of the Colville Reservation; Confederated Tribes of the Grand Ronde Community of Oregon; Confederated Tribes of the Umatilla Indian Reservation (previously listed as the Confederated Tribes of the Umatilla Reservation, Oregon); Confederated Tribes of the Warm Springs Reservation of Oregon; Nez Perce Tribe (previously listed as the Nez Perce Tribe of Idaho); Spokane Tribe of the Spokane Reservation; and the Wanapum Band, a non-federally recognized Indian group.

Additional Requestors and Disposition

Lineal descendants or representatives of any Indian tribe or Native Hawaiian organization not identified in this notice that wish to request transfer of control of these human remains and associated funerary objects should submit a written request with information in support of the request to James L. Jones, Jr., Cultural Resource Specialist, Minnesota Indian Affairs Council, 113 2nd Avenue NW., Suite 110A, Bemidji, MN 56601, telephone (218) 209-7916, by January 7, 2016. After that date, if no additional requestors have come forward, transfer of control of the human remains and associated funerary objects to the Confederated Tribes and Bands of the Yakama Nation; Confederated Tribes of Siletz Indians of Oregon (previously listed as the Confederated Tribes of the Siletz Reservation); Confederated Tribes of the Chehalis Reservation; Confederated Tribes of the Colville Reservation; Confederated Tribes of the Grand Ronde Community of Oregon; Confederated Tribes of the Umatilla Indian Reservation (previously listed as the Confederated Tribes of the Umatilla Reservation, Oregon); Confederated Tribes of the Warm Springs Reservation of Oregon; Nez Perce Tribe (previously listed as the Nez Perce Tribe of Idaho); Spokane Tribe of the Spokane Reservation; and the Wanapum Band, a non-federally recognized Indian group, may proceed.

The Minnesota Indian Affairs Council is responsible for notifying the Confederated Tribes and Bands of the Yakama Nation; Confederated Tribes of Siletz Indians of Oregon (previously listed as the Confederated Tribes of the Siletz Reservation); Confederated Tribes of the Chehalis Reservation; Confederated Tribes of the Colville Reservation; Confederated Tribes of the Grand Ronde Community of Oregon; Confederated Tribes of the Umatilla Indian Reservation (previously listed as the Confederated Tribes of the Umatilla Reservation, Oregon); Confederated Tribes of the Warm Springs Reservation of Oregon; Nez Perce Tribe (previously listed as the Nez Perce Tribe of Idaho); Spokane Tribe of the Spokane Reservation; and the Wanapum Band, a non-federally recognized Indian group, that this notice has been published.

Dated: October 29, 2015.
Melanie O'Brien,
Manager, National NAGPRA Program.

[FR Doc. 2015-30904 Filed 12-7-15; 8:45 am]

BILLING CODE 4312-50-P